NUCLEAR REGULATORY COMMISSION

[NRC-2020-0165]

Applications and Amendments to Facility Operating Licenses and Combined Licenses Involving Proposed No Significant Hazards Considerations and Containing Sensitive Unclassified Non-Safeguards Information and Order Imposing Procedures for Access to Sensitive Unclassified Non-Safeguards Information

AGENCY: Nuclear Regulatory Commission.

ACTION: Notice of revised format.

SUMMARY: The U.S. Nuclear Regulatory Commission (NRC) is notifying the public of its revised format for applications and amendments to facility operating licenses and combined licenses involving proposed no significant hazards considerations and containing sensitive unclassified non-safeguards information (SUNSI) and order imposing procedures for access to SUNSI information.

DATES: The revised format described in this document takes effect on November 3, 2020.

ADDRESSES: Please refer to Docket ID NRC-2020-0165 when contacting the NRC about the availability of information regarding this document. You may obtain publicly-available information related to this document using any of the following methods:

• Federal Rulemaking Website: Go to https://www.regulations.gov/ and search for Docket ID NRC-2020-0165. Address questions about NRC docket IDs to Jennifer Borges; telephone: 301-287-9127; email: Jennifer.Borges@nrc.gov. For technical questions, contact the individual listed in the FOR FURTHER INFORMATION CONTACT section of this document.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room reference staff at 1-800-397-4209, 301-415-4737, or by email to pdr.resource@nrc.gov.

FOR FURTHER INFORMATION CONTACT: Eva Brown, Office of Nuclear Reactor Regulation, U.S. Nuclear Regulatory Commission, Washington, DC 20555-0001, telephone: 301-415-2315, email: Eva.Brown@nrc.gov.

SUPPLEMENTARY INFORMATION: Section 189a.(2)(A) of the Atomic Energy Act of 1954, as amended (the Act), grants the Commission the authority to issue and make immediately effective any amendment to an operating license or any amendment to a combined construction and operating license, as applicable, upon a determination by the Commission that such amendment involves no significant hazards consideration, notwithstanding the pendency before the Commission of a request for a hearing from any person. Section 189a.(2)(B) of the Act, as amended, requires that the Commission periodically (but not less frequently than once every 30 days) publish notice of any amendments issued, or proposed to be issued pursuant to section 189a.(2)(A). To fulfill this requirement, the NRC periodically issues a document entitled, “Applications and Amendments to Facility Operating Licenses and Combined Licenses Involving Proposed No Significant Hazards Considerations and Containing Sensitive Unclassified Non-Safeguards Information and Order Imposing Procedures for Access to Sensitive Unclassified Non-Safeguards Information,” in the Federal Register.

Instead of quoting each licensee's amendment application, as is done under the current format, the revised format will provide tables that state the proposed no significant hazards considerations determination and provide the location of the NRC's rationale for each determination for each of the listed applications. The revised format will also use tables to provide notice of license amendments issued. This streamlined format will provide efficiency to the public and interested stakeholders in locating pertinent information and will provide a government cost savings in time and print expenses. The public and interested stakeholders can still access all the information provided in each licensee's amendment application by going to the ADAMS accession numbers that will be provided in the tables. The revised format will be utilized in Federal Register notices commencing November 3, 2020.

Dated: September 29, 2020.
For the Nuclear Regulatory Commission.
Craig G. Erlanger,
Director, Division of Operating Reactor Licensing, Office of Nuclear Reactor Regulation.

[FR Doc. 2020-21919 Filed 10-5-20; 8:45 am]

BILLING CODE 7590-01-P